DEPARTMENT OF COMMERCE

Submission for OMB Review; Comment Request; Trade Adjustment Assistance for Firms Program; Form ED-840P Petition by a Firm for Certification of Eligibility To Apply for Trade Adjustment Assistance for Firms

The Department of Commerce will submit to the Office of Management and Budget (OMB) for clearance the following proposal for collection of information under the provisions of the Paperwork Reduction Act (44 U.S.C. Chapter 35).

Agency: Economic Development Administration (EDA).

Title: Form ED-840P Petition by a Firm for Certification of Eligibility to Apply for Trade Adjustment Assistance for Firms.

OMB Control Number: 0610-0091.

Form Number(s): ED-840P.

Type of Request: Regular submission.

Number of Respondents: 800 (500 petitions for certification and 300 adjustment proposals).

Average Hours per Response: 128.2 hours (8.2 for petitions for certification and 120 for adjustment proposals).

Burden Hours: 40,100 (4,100 for petitions for certification and 36,000 for adjustment proposals).

Needs and Uses: The information contained in Form ED-840P is necessary for EDA to evaluate whether proposed projects satisfy eligibility and programmatic requirements contained in chapters 3 and 5 of title II of the Trade Act of 1974, as amended (U.S.C. 2341 et seq.) and the Trade Adjustment Assistance Extension Act of 2011 (Pub. L. 112-40) which reauthorized the program.

Affected Public: Businesses or other for-profit organizations.

Frequency: On occasion.

Respondent's Obligation: Mandatory.

The Federal Register notice that solicited public comment on the information collection for a period of 60 days was published on March 17, 2016.

This information collection request may be viewed at www.reginfo.gov. Follow the instructions to view the Department of Commerce collections currently under review by OMB.

Written comments and recommendations for the proposed information collection should be sent within 30 days of publication of this notice to OIRA Submission@omb.eop.gov or fax to (202) 975-5806.

Dated: June 6, 2016.
Glenna Mickelson,
Management Analyst, Office of the Chief Information Officer.

[FR Doc. 2016-13666 Filed 6-8-16; 8:45 am]

BILLING CODE P